DEPARTMENT OF HEALTH AND HUMAN SERVICES

Centers for Disease Control and Prevention

[Program Announcement 04060]

Cooperative Agreement for Research on the Association Between Exposure to Media Violence and Youth Violence; Notice of Availability of Funds—Amendment

A notice announcing the availability of fiscal year (FY) 2004 funds for cooperative agreements to conduct methodologically sound research on how media violence affects youth violent behavior was published in the Federal Register on November 28, 2003, Volume 68, Number 229, pages 66829-66834. The notice is amended as follows:

On page 66833, Column 3, Line 4 in the first paragraph after the “AR-25” requirement, delete “$250,000” and replace with “$500,000.”

Dated: December 19, 2003.
Edward Schultz,
Acting Director, Procurement and Grants Office, Centers for Disease Control and Prevention.

[FR Doc. 03-31835 Filed 12-29-03; 8:45 am]

BILLING CODE 4163-18-P